DEPARTMENT OF ENERGY

Federal Energy Regulatory Commission

[Docket No. ER95-1042-004, et al.]

System Energy Resources, Inc., et al.; Electric Rate and Corporate Regulation Filings

September 7, 2001.

Take notice that the following filings have been made with the Commission:

1. System Energy Resources, Inc.

[Docket Nos. ER95-1042-004]

Take notice that on August 29, 2001, System Energy Services, Inc. (Energy Services), as agent for System Energy Resources, Inc. (SERI) submitted for filing six copies of the Unit Power Sales Agreement (UPSA), SERI Rate Schedule FERC No. 2, in compliance with the above-captioned dockets and in compliance with Federal Energy Regulatory Commission (FERC or the Commission) Order No. 614, and a black-lined copy of the UPSA. This filing also includes six copies of SERI's Master Nuclear Decommissioning Trust Agreement (Trust Agreement), which has been redesignated from supplements to SERI Rate Schedule FERC No. 2 to a new rate schedule, SERI Rate Schedule FERC No. 4, and a black-lined copy of the Trust Agreement. Further enclosed for filing are six copies of SERI's Grand Gulf Accelerated Recovery Tariff For Entergy Mississippi, Inc. (“GGART-M”), which has been redesignated from supplements to SERI Rate Schedule FERC No. 2 to a new rate schedule, SERI Rate Schedule FERC No. 5, along with a black-lined copy of the GGART-M. Finally, enclosed for filing are six copies of a Stipulation and Agreement (Stipulation), which has been redesignated from a supplement to SERI Rate Schedule FERC No. 2 to a new rate schedule, SERI Rate Schedule FERC No. 6, along with a black-lined copy of the Stipulation.

Comment date: September 19, 2001, in accordance with Standard Paragraph E at the end of this notice.

2. New York State Electric & Gas CorporationDocket Nos.

[Docket Nos. ER97-1523-066, OA97-470-061 and ER97-4234-059]

Take notice that on August 29, 2001, New York State Electric & Gas Corporation (“NYSEG”) filed Notices of Cancellation of NYSEG's Electric Rate Schedule FERC Nos. 67, 70 and 80 to become effective November 18, 1999, and in compliance with Commission Order 614 original tariff sheets.

NYSEG requests all necessary waivers of the Commission's notice and any other requirements necessary to make the cancellation of Electric Rate Schedule FERC Nos. 67, 70 and 80 between NYSEG and NYPA effective as of November 18, 1999. The effectiveness of the Notices of Cancellation is conditioned upon the Commission's acceptance for filing of the Amended and Restated Transmission Service Agreement between NYSEG and NYPA (filed in Docket Nos. ER97-1523-062, OA97-470-057 and ER97-1523-062) effective as of November 18, 1999, in accordance with its provisions.

Comment date: September 19, 2001, in accordance with Standard Paragraph E at the end of this notice.

3. Oklahoma Gas and Electric Company

[Docket Nos. ER01-1567-001 and ER01-1568-001]

Take notice that on August 29, 2001, in compliance with the letter order issued in these dockets on April 11, 2001, as modified by letter orders issued on May 29, 2001 and August 23, 2001, Oklahoma Gas and Electric Company filed a Power Supply Agreement with the Municipal Energy Agency of Mississippi with proposed designations, as required by the Commission's Order No. 614.

Comment date: September 19, 2001, in accordance with Standard Paragraph E at the end of this notice.

4. Commonwealth Edison Company

[Docket No. ER01-2964-000]

Take notice that on August 29, 2001, Commonwealth Edison Company (ComEd) submitted for filing with the Federal Energy Regulatory Commission (Commission) a Service Agreement for Firm Point-to-Point Transmission Service (Service Agreement) with GEN SYS Energy under the terms of ComEd's Open Access Transmission Tariff (OATT).

ComEd requests an effective date of August 1, 2001, and accordingly requests waiver of the Commission's notice requirements.

A copy of this filing has been sent to GEN SYS Energy.

Comment date: September 19, 2001, in accordance with Standard Paragraph E at the end of this notice.

5. Louisville Gas And Electric Company

[Docket No. ER01-2965-000]

Take notice that on August 29, 2001, Louisville Gas and Electric Company (LG&E) filed with the Federal Energy Regulatory Commission (Commission or FERC), a termination notice for power sales service between LG&E and Tenaska Power Services Co. The terminated services are FERC Electric Tariff Original Volume 1 Service Agreement 606.

Comment date: September 19, 2001, in accordance with Standard Paragraph E at the end of this notice.

6. New York Independent System Operator, Inc.

[Docket No. ER01-2967-000]

Take notice that on August 29, 2001, the New York System Operator, Inc. (NYISO) tendered for filing with the Federal Energy Regulatory Commission (Commission), proposed revisions and additions to its Independent Access Transmission Tariff (OATT) designed to provide rules for the allocation of responsibility for the cost of new interconnection facilities. The NYISO has requested that the Commission act on this filing in an expedited manner, waive its usual 60-day notice period requirement and make the filing effective no later than September 26, 2001.

The NYISO has served a copy of this filing on all persons that have filed interconnection applications or executed Service Agreements under the NYISO OATT, on the New York Public Service Commission, and on the electric utility regulatory agencies in New Jersey and Pennsylvania. The NYISO has also emailed a copy of this filing to all of the subscribers to the NYISO Technical Information Exchange list.

Comment date: September 19, 2001, in accordance with Standard Paragraph E at the end of this notice.

7. FirstEnergy Solutions Corp.

[Docket No. ER01-2968-000]

Take notice that on August 29, 2001, FirstEnergy Solutions Corp. (Solutions) tendered for filing with the Federal Energy Regulatory Commission (Commission), pursuant to 18 CFR 35.16 a Notice of Succession to rate schedules of FirstEnergy Services Corp. (Services)

Solutions states that the Notice of Succession is being filed to implement a change in the corporate name of Services that is to take effect on September 1, 2001. Solutions has asked to make the Notice of Succession effective concurrently with the change of its corporate name.

Comment date: September 19, 2001, in accordance with Standard Paragraph E at the end of this notice.

8. NRG Audrain Generating LLC

[Docket No. ER01-2969-000]

Take notice that on August 28, 2001, NRG Audrain Generating LLC (NRG Audrain) submitted with the Federal Energy Regulatory Commission (Commission) a Notice of Succession pursuant to Section 35.16 of the Commission's regulations, 18 CFR 35.16. As a result of the name change, NRG Audrain is succeeding to the FERC Electric Tariff of Duke Energy Audrain, LLC, effective May 11, 2001.

Comment date: September 18, 2001, in accordance with Standard Paragraph E at the end of this notice.

9. Southwestern Electric Power Company

[Docket No. ER01-2970-000]

Take notice that on August 30, 2001, Southwestern Electric Power Company (SWEPCO) submitted for filing a revised Power Supply Agreement between SWEPCO and Rayburn Country Electric Cooperative, Inc. (Rayburn Country) (the Restated Agreement), which restates, integrates and amends the March 1, 1991 Power Supply Agreement between SWEPCO and Rayburn Country. SWEPCO has designated the Restated Agreement as SWEPCO First Revised Rate Schedule No. 111.

SWEPCO requests an effective date of June 15, 2000 for the Restated Agreement. Accordingly, to the extent necessary, SWEPCO seeks waiver of the Commission's filing requirements. SWEPCO has served copies of the filing on Rayburn Country and the Public Utility Commission of Texas. Copies of the filing are available for public inspection in SWEPCO's offices in Shreveport, Louisiana.

Comment date: September 20, 2001, in accordance with Standard Paragraph E at the end of this notice.

10. Allegheny Energy Service Corporation, on behalf of Allegheny Energy Supply Company, LLC (AE Supply)

[Docket No. ER01-2971-000]

Take notice that on August 30, 2001, Allegheny Energy Service Corporation on behalf of Allegheny Energy Supply Company, LLC (AE Supply), filed with the Federal Energy Regulatory Commission (Commission or FERC) a First Revised Rate Schedule FERC No. 9 (First Revised Schedule) with the Potomac Edison Company dab Allegheny Power in order for Allegheny Power to continue to supply its Virginia load requirements and to provide default service when Virginia implements customer choice. AE Supply has requested a waiver of notice to make the First Revised Schedule effective on January 1, 2001.

Copies of the filing have been provided to the customer and to the Virginia State Corporation Commission.

Comment date: September 20, 2001, in accordance with Standard Paragraph E at the end of this notice.

11. Central Power and Light Company, Public Service Company of Oklahoma, Southwestern Electric Power Company and West Texas Utilities Company

[Docket No. ER01-2972-000]

Take notice that on August 30, 2001, Central Power and Light Company (CPL), Public Service Company of Oklahoma (PSO), Southwestern Electric Power Company (SWEPCO) and West Texas Utilities Company (WTU) (collectively, the AEP Operating Companies) submitted for filing with the Federal Energy Regulatory Commission (Commission), service agreements establishing the Electric Reliability Council of Texas (ERCOT) as a customer under the AEP Operating Companies respective Coordination Sales and Reassignment of Transmission Rights Tariffs, CPL FERC Electric Tariff, Second Revised Volume No. 8; PSO FERC Electric Tariff, First Revised Volume No. 5; SWEPCO FERC Electric Tariff, First Revised Volume No. 5; and WTU FERC Electric Tariff, First Revised Volume No. 8.

The AEP Operating Companies have requested an effective date of July 31, 2001 for the agreements with ERCOT and, accordingly, seek waiver of the Commission's notice requirements.

The AEP Operating Companies have served a copy of the filing on ERCOT and on the Public Utilities Commission of Texas.

Comment date: September 20, 2001, in accordance with Standard Paragraph E at the end of this notice.

12. Wisconsin Public Service Corporation

[Docket No. ER01-2973-000]

Take notice that on August 30, 2001,Wisconsin Public Service Corporation (WPSC), tendered for filing with the Federal Energy Regulatory Commission (Commission), a revised, unexecuted service agreement with Manitowoc Public Utilities (Manitowoc) under WPSC's W-2A Tariff, “Partial Requirements Service to Interconnected Utility Customers.” WPSC is filing this modified service agreement because Manitowoc has ceased taking bundled service under the W-2A Tariff. Instead, Manitowoc will purchase electric generation from WPSC under the W-2A Tariff and will purchase transmission service from the American Transmission Company, L.L.C. (ATCLLC). WPSC requests that the Commission make the revised service agreement effective on August 1, 2001, the date on which Manitowoc began taking transmission service from the ATCLLC.

Copies of the filing were served upon Manitowoc and the Public Service Commission of Wisconsin.

Comment date: September 20, 2001, in accordance with Standard Paragraph E at the end of this notice.

13. Mirant Chalk Point, LLC

[Docket No. ER01-2974-000]

On August 30, 2001, Mirant Chalk Point, LLC (Mirant Chalk Point) filed with the Federal Energy Regulatory Commission (Commission), the following energy and capacity sales agreement for sales under Mirant Chalk Point's Market-Based Rate Tariff, which was accepted for filing in Docket No. ER01-1269-000.

Mirant Chalk Point request an effective date of August 1, 2001.

Comment date: September 20, 2001, in accordance with Standard Paragraph E at the end of this notice.

14. Mirant Peaker, LLC

[Docket No. ER01-2975-000]

On August 30, 2001, Mirant Peaker, LLC (Mirant Peaker) filed with the Federal Energy Regulatory Commission (Commission), the following energy and capacity sales agreement for sales under Mirant Peaker's Market-Based Rate Tariff, which was accepted for filing in Docket No. ER01-1276-000.

Mirant Peaker request an effective date of August 1, 2001.

Comment date: September 20, 2001, in accordance with Standard Paragraph E at the end of this notice.

15. Mirant Potomac River, LLC

[Docket No. ER01-2976-000]

On August 30, 2001, Mirant Potomac River, LLC (Mirant Potomac) filed with the Federal Energy Regulatory Commission (Commission), the following energy and capacity sales agreement for sales under Mirant Potomac's Market-Based Rate Tariff, which was accepted for filing in Docket No. ER01-1277-000.

Mirant Potomac request an effective date of August 1, 2001.

Comment date: September 20, 2001, in accordance with Standard Paragraph E at the end of this notice.

16. American Electric Power Service Corporation

[Docket No. ER01-2977-000]

Take notice that on August 30, 2001, American Electric Power Service Corporation (AEPSC) submitted for filing with the Federal Energy Regulatory Commission (Commission), Service Agreement for ERCOT Regional Transmission Service between AEPSC and the following customers: AES New Energy, Inc., Calpine Power America LP, Coral Power, L.L.C., Dynegy Energy Marketing, L.P., Enron Energy Services, Inc., Enron Power Marketing, Inc., Entergy Solutions, LTD, Entergy Solutions Select Ltd., First Choice Power, Inc., FPL Energy Power Marketing, Inc., Green Mountain Energy company, Mutual Energy CPL, LP, Mutual Energy SWEPCO, LP, Mutual Energy WTU, LP, Occidental Power Marketing, L.P., Reliant Energy Solutions, LLC, Reliant Energy Retail Services, LLC, Sempra Energy Solutions, Shell Energy Services Company, L.L.C. StarEN Power, LLC, Strategic Energy, LLC d/b/a expert Energy, The New Power Company, TXI Power Company, TXU Energy Services Company, Utility Choice, LLC, and XERS INC. d/b/a Xcel Energy.

SAEPSC seeks an effective date of July 31, 2001 for all of these agreements and accordingly seeks waiver of the Commission's notice requirement. This date coincides with the first day of implementation of the pilot retail choice program in Texas and the establishment of single control area operations in ERCOT.

AEPSC has serviced copies of the filing on all of the customers and the Public Utility Commission of Texas.

Comment date: September 20, 2001, in accordance with Standard Paragraph E at the end of this notice.

17. Portland General Electric Company

[Docket No. ER01-2978-000]

Take notice that on August 30, 2001, Portland General Electric Company submitted for filing with the Federal Energy Regulatory Commission (Commission) six copies of Service Agreement No.115 to the Portland General Electric FERC Electric Tariff, Second Revised Volume No. 8, which is PGE's Open Access Transmission Tariff. This Service Agreement is a Transmission Service Agreement (TSA) between PGE's transmission function and PGE's merchant function.

PGE requests that this TSA be made effective as of August 1, 2001, which is the service commencement date under the TSA.

Comment date: September 20, 2001, in accordance with Standard Paragraph E at the end of this notice.

18. Louisville Gas And Electric Company/Kentucky Utilities Company

[Docket No. ER01-2979-000]

Take notice that on August 30, 2001, Louisville Gas and Electric Company (LG&E)/Kentucky Utilities (KU) (hereinafter Companies) tendered for filing with the Federal Energy Regulatory Commission (Commission) an executed Netting Agreement between the Companies and The Detroit Edison Company.

Comment date: September 20, 2001, in accordance with Standard Paragraph E at the end of this notice.

19. American Electric Power Service Corporation

[Docket No. ER01-2980-000]

Take notice that on August 30, 2001, American Electric Power Service Corporation (AEPSC) submitted for filing with the Federal Energy Regulatory Commission (Commission), Service Agreements for ERCOT Ancillary Services between AEPSC and the following customers: Big Country Electric Cooperative, Inc., The City of Hearne, Texas, The City of Weatherford, Texas, Coleman Country Electric Cooperative, Inc., Concho Valley Electric Cooperative, Inc., Lighthouse Electric Cooperative, Inc., Medina Electric Cooperative, Inc., Pedernales Electric Cooperative, Inc., Rio Grande Electric Cooperative, Inc., South Texas Electric Cooperative Inc., Southwest Texas Electric Cooperative, Inc., Taylor Electric Cooperative, Inc., and Tex-La Electric Cooperative of Texas, Inc.

AEPSC seeks an effective date of August 1, 2001 for all of these agreements and, accordingly seeks waiver of the Commission's notice requirement.

AEPSC has served copies of the filing on all of the customers and the Public Utility Commission of Texas.

Comment date: September 20, 2001, in accordance with Standard Paragraph E at the end of this notice.

20. Mirant Mid-Atlantic, LLC

[Docket No. ER01-2981-000]

On August 30, 2001, Mirant Mid-Atlantic, LLC (Mirant Mid-Atlantic) filed with the Federal Energy Regulatory Commission (Commission) the following energy and capacity sales agreement for sales under Mirant Mid-Atlantic's Market-Based Rate Tariff, which was accepted for filing in Docket No. ER01-1273-000.

Energy and Capacity Sales Agreement dated as of August 1, 2001, between Mirant Mid-Atlantic, LLC, and Mirant Americas Energy Marketing LP.

Comment date: September 20, 2001, in accordance with Standard Paragraph E at the end of this notice.

21. Old Dominion Electric Cooperative

[Docket No. ER01-2982-000]

Take notice that on August 30, 2001, Old Dominion Electric Cooperative (Applicant) filed with the Federal Energy Regulatory Commission (Commission), an Application Submitting Rate Schedules Pursuant To Market-Based Rate Authority And Request For Waivers, submitting for filing an addendum to Rate Schedule NOVEC1-OD, which is currently in effect pursuant to the Service Agreement between Applicant and Northern Virginia Electric Cooperative accepted for filing in Docket No. ER00-1512-000, and a new Rate Schedule NOVEC2-OD, for service to new load at a new delivery point.

Comment date: September 20, 2001, in accordance with Standard Paragraph E at the end of this notice.

22. MidAmerican Energy Company

[Docket No. ER01-2986-000]

Take notice that on August 30, 2001, MidAmerican Energy Company (MidAmerican), 401 Douglas Street, P. O. Box 778, Sioux City, Iowa 51102 tendered for filing with the Federal Energy Regulatory Commission (Commission), a change to its Open Access Transmission Tariff (OATT) consisting of First Revised Sheet Nos. 42, 51, 104, and 202-208 of First Revised Volume No. 8.

MidAmerican states that the changes in the tariff sheets are to comply with the Commission's order in Docket No. ER01-2207-000, dated July 25, 2001, adopting the Mid-Continent Area Power Pool (MAPP) amended Schedule F to incorporate the North American Electric Reliability Council (NERC) transmission loading relief (TLR) procedures for curtailments of firm transmission, including generation to load service.

MidAmerican proposes that First Revised Volume No. 8 become effective on July 16, 2001, and requests a waiver of the Commission's notice requirements.

The proposed change has been mailed to all Transmission Customers having service agreements under the OATT, the Iowa Utilities Board and the Illinois Commerce Commission, the South Dakota Public Utilities Commission.

Comment date: September 20, 2001, in accordance with Standard Paragraph E at the end of this notice.

23. New York Independent System Operator, Inc.

[Docket No. ER01-2988-000]

Take notice that on August 31, 2001, the New York Independent System Operator, Inc. (NYISO) filed with the Federal Energy Regulatory Commission (Commission), revisions to its Open Access Transmission Tariff (OATT) and its Market Administration and Control Area Services (Services Tariff) to modify and establish a common time period in the OATT and the Services Tariff for a customer to challenge the accuracy of final billing invoices. The NYISO has requested an effective date of November 1, 2001 for the filing.

The NYISO has served a copy of this filing upon all parties that have executed service agreements under the NYISO's OATT and Services Tariff.

Comment date: September 21, 2001, in accordance with Standard Paragraph E at the end of this notice.

24. Illinois Power Company

[Docket No. ES01-42-000]

Take notice that on August 31, 2001, Illinois Power Company submitted an application pursuant to section 204 of the Federal Power Act seeking authorization to issue short-term debt, from time to time, in an amount not to exceed $500 million.

Comment date: September 24, 2001, in accordance with Standard Paragraph E at the end of this notice.

25. United States Department of Energy Bonneville Power Administration

[Docket No. NJ01-10-000]

Take notice that on August 24, 2001, the Bonneville Power Administration (Bonneville) filed an amendment to its December 14, 2000 filing of its proposed Open Access Transmission Tariff with the Federal Energy Regulatory Commission (Commission).

Comment date: September 24, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-23096 Filed 9-14-01; 8:45 am]

BILLING CODE 6717-01-P